DEPARTMENT OF THE INTERIOR

National Park Service

[NPS-WASO-NAGPRA-NPS0035911; PPWOCRADN0-PCU00RP14.R50000]

Notice of Inventory Completion: U.S. Department of Agriculture, Forest Service, Lincoln National Forest, Alamogordo, NM

AGENCY: National Park Service, Interior.

ACTION: Notice.

SUMMARY: In accordance with the Native American Graves Protection and Repatriation Act (NAGPRA), the U.S. Department of Agriculture, Forest Service, Lincoln National Forest (Lincoln National Forest) has completed an inventory of human remains and associated funerary objects and has determined that there is no cultural affiliation between the human remains and associated funerary objects and Indian Tribes or Native Hawaiian organizations in this notice. The human remains and associated funerary objects were removed from Pickett's Cave, Eddy County, NM.

DATES: Disposition of the human remains and associated funerary objects in this notice may occur on or after June 23, 2023.

ADDRESSES: Scott Hays-Strom, Lincoln National Forest, 3463 Las Palomas Road, Alamogordo, NM 88310, telephone (575) 434-7206, email Scott.Hays-Strom@usda.gov.

SUPPLEMENTARY INFORMATION: This notice is published as part of the National Park Service's administrative responsibilities under NAGPRA. The determinations in this notice are the sole responsibility of Lincoln National Forest. The National Park Service is not responsible for the determinations in this notice. Additional information on the determinations in this notice, including the results of consultation, can be found in the inventory or related records held by Lincoln National Forest.

Description

Human remains representing, at minimum, one individual were removed from Lincoln National Forest, Eddie County, NM. These human remains were excavated under the direction of archeologist Edwin Nelson Ferdon, Jr. during the excavation of a cave by the University of Nebraska State Museum (UNSM) Vertebrate Paleontology Division led by C. Bertrand Shultz. The human remains were in the physical custody of Museum Director C. Bertrand Shultz until his death in 1995. In September of 1998, they were discovered in the office of the late Thomas Myers, UNSM Curator of Anthropology, and were immediately transferred to the UNSM NAGPRA Repository. Osteological examination determined that the human remains belong to a Native American young adult male over 18 years of age. A prehistoric date for these human remains is based on the pottery sherds found within the same cultural level in the excavation (Ferdon 23:1946). The 42 associated funerary objects are 17 woven fiber sandals, one basketry fragment, one black projectile point, one fragment of charcoal, 11 bags of fiber fragments belonging to woven sandals, one boxed lot of charcoal pieces, one boxed lot containing partial sandals and sandal fragments, one partial fiber sandal (labeled SR-6421), one boxed lot containing fiber fragments and a shell fragment, one piece of worked brown chert, one boxed lot of fiber sandal fragments, two faunal bone fragments, one piece of wood, one shell ornament with drilled holes, and one boxed lot containing two pieces of worked stone, faunal bones, a piece of charcoal, and strips of bark.

Aboriginal Land

The human remains and associated funerary objects in this notice were removed from known geographic locations. These locations are the aboriginal lands of one or more Indian Tribes. The following information was used to identify the aboriginal land: final judgement of the Indian Claims Commission, treaties, Acts of Congress, and Executive Orders.

Determinations

Pursuant to NAGPRA and its implementing regulations, and after consultation with the appropriate Indian Tribes and Native Hawaiian organizations, Lincoln National Forest has determined that:

• The human remains described in this notice represent the physical remains of one individual of Native American ancestry.

• The 42 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Comanche Nation, Oklahoma; Hopi Tribe of Arizona; Mescalero Apache Tribe of the Mescalero Reservation, New Mexico; Navajo Nation, Arizona, New Mexico, & Utah; and the Zuni Tribe of the Zuni Reservation, New Mexico.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects in this notice to a requestor may occur on or after June 23, 2023. If competing requests for disposition are received, Lincoln National Forest must determine the most appropriate requestor prior to disposition. Requests for joint disposition of the human remains and associated funerary objects are considered a single request and not competing requests. Lincoln National Forest is responsible for sending a copy of this notice to the Indian Tribes and Native Hawaiian organizations identified in this notice.

Authority: Native American Graves Protection and Repatriation Act, 25 U.S.C. 3003, and the implementing regulations, 43 CFR 10.9, 10.10, and 10.14.

Dated: May 17, 2023.
Melanie O'Brien,
Manager, National NAGPRA Program.

[FR Doc. 2023-11016 Filed 5-23-23; 8:45 am]

BILLING CODE 4312-52-P